DEPARTMENT OF HOMELAND SECURITY

Coast Guard

[Docket No. USCG-2008-1077]

National Maritime Security Advisory Committee

AGENCY: Coast Guard, DHS.

ACTION: Notice of committee re-establishment.

SUMMARY: The Secretary of Homeland Security is re-establishing the National Maritime Security Advisory Committee (NMSAC) under the authority of 6 U.S.C. Section 451, as a discretionary committee in accordance with the provisions of the Federal Advisory Committee Act, 5 U.S.C. App. (Pub. L. 92-463).

ADDRESSES: You may request a copy of the charter by one of the following methods:

• E-mail: NMSAC@uscg.mil, Subject line: NMSAC Charter,

• Fax: 202-372-1905, ATTN: NMSAC DFO/EA, please provide name, mailing address and telephone and fax numbers for whom the charter is to be sent.

• Mail: Send written requests for charter to: USCG-NMSAC Designated Federal Officer (DFO), CG-5441, Room 5302, U.S. Coast Guard Headquarters, 2100 Second St., SW., Washington, DC 20593-0001, please provide name, mailing address and telephone and fax numbers for whom the charter is to be sent.

Internet: To download a copy visit the NMSAC Web site at http://homeport.uscg.mil/nmsac.

FOR FURTHER INFORMATION CONTACT: Ryan F. Owens, Assistant to DFO of NMSAC; at (202) 372-1108.

SUPPLEMENTARY INFORMATION: Establishment of the National Maritime Security Advisory Committee. The Federal Advisory Committee Act (FACA), 5 U.S.C. App. (Pub. L. 92-463), governs the establishment of committees by Federal agencies.

The Committee will advise, consult with, report to, and make recommendations to the Secretary on matters relating to national maritime security. Such matters may include, but not be limited to:

• Developing a national strategy and policy to provide for efficient, coordinated and effective action to deter and minimize damage from maritime related transportation security incidents;

• Recommending actions required to meet current and future security threats to ports, vessels, facilities, waterways and their associated inter-modal transportation connections and critical infrastructure;

• Promoting international cooperation and multilateral solutions to maritime security issues;

• Addressing security issues and concerns brought to the Committee by segments of the maritime transportation industry, or other port and waterway stakeholders; and,

• Examining such other matters, related to those above, that the Secretary may charge the Committee with addressing.

FACA requires advisory committees to meet at least yearly. However, we anticipate that this Committee will meet more frequently. Subcommittees may also meet between meetings of the parent Committee. Most meetings will be held at Coast Guard Headquarters in Washington, DC, but some meetings may be held at locations around the country.

Dated: October 30, 2008.
Mark P. O'Malley,
Captain, U.S. Coast Guard, Office of Port and Facility Activities.

[FR Doc. E8-26668 Filed 11-7-08; 8:45 am]

BILLING CODE 4910-15-P